SMALL BUSINESS ADMINISTRATION

Contemporary Healthcare Senior Lien Fund I, LP; License No. 02/02-0649; Notice Seeking Exemption Under Section 312 of the Small Business Investment Act, Conflicts of Interest

Notice is hereby given that Contemporary Healthcare Senior Lien Fund I, LP, 1040 Broad Street, Suite 103, Shrewsbury, NJ 07702, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Contemporary Healthcare Senior Lien Fund I, LP proposes to provide debt financing to CWP Hermann Park, LLC and HP SNF OPCO, LLC, 5600 Chenevert Street, Houston, TX 77004.

The financing is brought within the purview of § 107.730(a)(4) of the Regulations because the proceeds will be used to discharge an obligation to Contemporary Healthcare Fund I, LP, an Associate of Contemporary Healthcare Senior Lien Fund I, LP. Therefore this transaction requires prior SBA exemption.

Notice is hereby given that any interested person may submit written comments on the transaction, within fifteen days of the date of this publication, to the Associate Administrator for Investment and Innovation, U.S. Small Business Administration, 409 Third Street SW., Washington, DC 20416.

Javier E. Saade,
Associate Administrator for Office of Investment and Innovation.

[FR Doc. 2014-09816 Filed 4-29-14; 8:45 am]

BILLING CODE P